DEPARTMENT OF ENERGY

Federal Energy Regulatory Commission

[Docket No. RP02-492-003]

Algonquin Gas Transmission Company; Notice of Compliance Filing

February 21, 2003.

Take notice that on February 19, 2003, Algonquin Gas Transmission Company (Algonquin) tendered for filing as part of its FERC Gas Tariff, Fourth Revised Volume No. 1, the following tariff sheets, to be effective October 1, 2002:

2nd Sub 1st Rev Fourth Revised Sheet No. 640

Original Sheet No. 640A

Algonquin states that it is filing the revised tariff sheets, which address the determination of partial day release quantities, pursuant to an order issued by the Commission in the captioned docket on February 6, 2003 (February 6 Order).

Algonquin states that copies of its filing have been mailed to all affected customers of Algonquin and interested state commissions, and all parties on the Commission's official service list in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 3, 2003.

Magalie R. Salas,
Secretary.

[FR Doc. 03-4716 Filed 2-26-03; 8:45 am]

BILLING CODE 6717-01-P